COMMODITY FUTURES TRADING COMMISSION

Global Markets Advisory Committee Meeting

The Commission's Global Markets Advisory Committee will conduct a public meeting on December 9, 2009. The meeting will take place in the first floor hearing room of the Commission's Washington, DC headquarters, Three Lafayette Centre, 1155 21st Street, NW., Washington, DC 20581 from 1 p.m. to 5 p.m. There will also be a live broadcast of the meeting via Webcast. To view the live Webcast from a desktop PC with Internet access go to http://www.cftc.gov.

The purpose of the meeting is to discuss global markets issues related to the Commission's regulatory responsibilities. The meeting will be chaired by Commissioner Jill Sommers who is Chairman of the Global Markets Advisory Committee.

The agenda will consist of the following:

• Opening Remarks from Commissioners/Introduction of GMAC Members.

• Update on IOSCO Issues.

• Bankruptcy Issues—CFTC/Lehman Brothers.

• Overview of Proposals to Regulate OTC Derivatives.

• Discussion of Clearing Proposals for OTC Derivatives.

• Other Business.

The meeting is open to the public. Any member of the public who wishes to file a written statement with the committee should mail a copy of the statement to the attention of: Global Markets Advisory Committee, c/o Commissioner Jill Sommers, Three Lafayette Centre, 1155 21st Street, NW., Washington, DC 20581, before the meeting.

For further information concerning this meeting, please contact Andrew Morton at 202-418-5030.

Issued by the Commission in Washington, DC on November 2, 2009.
David A. Stawick,
Secretary of the Commission.

[FR Doc. E9-26785 Filed 11-5-09; 8:45 am]

BILLING CODE P